DEPARTMENT OF LABOR

Mine Safety and Health Administration

30 CFR Parts 6, 14, 18, 48, and 75

RIN 1219-AB59

Flame-Resistant Conveyor Belt, Fire Prevention and Detection, and Use of Air from the Belt Entry

AGENCY: Mine Safety and Health Administration (MSHA), Labor.

ACTION: Final rule, corrections.

SUMMARY: This document contains corrections to compliance dates for the final rule published in the Federal Register on December 31, 2008 for Flame-Resistant Conveyor Belt, Fire Prevention and Detection, and Use of Air from the Belt Entry (73 FR 80580). In addition, minor typographical errors in the SUPPLEMENTARY INFORMATION section, Compliance dates, are also corrected.

DATES: This correction is effective January 21, 2009.

FOR FURTHER INFORMATION CONTACT: Patricia W. Silvey at silvey.patricia@dol.gov (E-mail), (202) 693-9440 (Voice), or (202) 693-9441 (Fax).

This notice corrects errors contained in the Compliance Date section of FR Doc. E8-30639, published on Wednesday, December 31, 2008, beginning on page 80580. The following Corrections should be made:

1. On page 80580, in the first column, the language for item number 3 is corrected to read:

“3. §§ 75.380(d)(7), 75.380(f), 75.381(c)(5), and 75.381(e) by June 30, 2009.”

2. Additionally, MSHA inadvertently omitted compliance dates for four sections of the final rule. Therefore, on the same page, in the same column, new item 6 should be added to read as follows:

“6. Each mine operator required to use an atmospheric monitoring system under § 75.350(b) shall comply with the following sections within 60 days after approval of the mine ventilation plan by the district manager.

1. § 75.350(d)(1),

2. § 75.351(e)(1)(iii),

3. § 75.351(e)(1)(iv), and

4. § 75.352(g).”

Richard E. Stickler,
Acting Assistant Secretary for Mine Safety and Health.

[FR Doc. E9-1087 Filed 1-16-09; 8:45 am]

BILLING CODE 4510-43-P